DEPARTMENT OF VETERANS

Veterans' Advisory Committee on Education, Notice of Meeting

The Department of Veterans Affairs (VA) gives notice under the Federal Advisory Committee Act, 5 U.S.C. App. 2., that the Veterans' Advisory Committee on Education (the Committee) will meet virtually using Microsoft Teams October 19, 2021-October 20, 2021 from 10:00 a.m. to 5:00 p.m., EST. The meeting sessions are open to the public.

The purpose of the Committee is to advise the Secretary of Veterans Affairs on the administration of education and training programs for Veterans, Service members, Reservists, and Dependents of Veterans, including programs under Chapters 30, 32, 33, 35, and 36 of title 38, and Chapter 1606 of title 10, United States Code.

The purpose of the meeting is for the Committee to hear reports from three subcommittees (Modernization, OJT/Apprenticeship and Distance Learning) and to discuss the Committee's draft recommendations. These recommendations will be refined based on this discussion and submitted to the Secretary.

Interested persons may attend virtually. The meeting will be conducted using Microsoft Teams. Please email EDUSTAENG.VBAVACO@va.gov for an invitation link prior to October 19, 2021 or dial-in by phone (for audio only) 1-872-701-0185 United States, Chicago (Toll), Conference ID: 574 843 116#.

Although no time will be allotted for receiving oral presentations from the public, individuals wishing to share information for the Committee to review, may submit written statements to Mr. Joseph Maltby, Designated Federal Official, Department of Veterans Affairs, by email at EDUSTAENG.VBAVACO@va.gov. Comments will be accepted until close of business on Monday, October 18, 2021. In the communication, the writers must identify themselves and state the organization or association they represent for inclusion in the official record. Any member of the public wishing to participate or seeking additional information should contact Joseph Maltby at EDUSTAENG.VBAVACO@va.gov, not later than October 18, 2021.

Dated: September 2, 2021.
Jelessa M. Burney,
Federal Advisory Committee Management Officer.

[FR Doc. 2021-19427 Filed 9-8-21; 8:45 am]

BILLING CODE P